CONSUMER PRODUCT SAFETY COMMISSION

Submission for OMB Review; Comment Request—Safety Standards for Full-Size Baby Cribs and Non-Full-Size Baby Cribs; Compliance Form

AGENCY: Consumer Product Safety Commission.

ACTION: Notice.

SUMMARY: The Consumer Product Safety Commission (CPSC or Commission) announces that it has submitted to the Office of Management and Budget (OMB) a proposed collection of information for review and clearance under the Paperwork Reduction Act of 1995 (44 U.S.C. Chapter 35). This collection of information relates to a form that will be used to measure child care centers' compliance with the recent CPSC safety standards for full-size and non-full-size cribs.

DATES: Fax written comments on the collection of information by August 27, 2012.

ADDRESSES: To ensure that comments on the information collection are received, OMB recommends that written comments be faxed to the Office of Information and Regulatory Affairs, OMB, Attn: CPSC Desk Officer, FAX: 202-395-6974, or emailed to oira_submission@omb.eop.gov. All comments should be identified by Docket No. CPSC-2012-0019. In addition, written comments should be submitted to http://www.regulations.gov, under Docket No. CPSC-2010-0088, or by mail/hand delivery/courier (for paper, disk, or CD-ROM submissions), preferably in five copies, to: Office of the Secretary, U.S. Consumer Product Safety Commission, Room 820, 4330 East West Highway, Bethesda, MD 20814; telephone (301) 504-7923. For access to the docket to read background documents or comments received, go to: http://www.regulations.gov. A copy of the draft survey is available at: http://www.regulations.gov, under Docket No. CPSC-2012-0019, Supporting and Related Materials.

FOR FURTHER INFORMATION CONTACT: For information about the proposed collection of information call or write Mary James, Office of Information and Technology Services, Consumer Product Safety Commission, 4330 East West Highway, Bethesda, MD 20814; (301) 504-7213, or by email to: mjames@cpsc.gov.

SUPPLEMENTARY INFORMATION: In compliance with 44 U.S.C 3507, the CPSC has submitted a proposed collection of information to OMB for review and clearance of a form that CPSC staff intends to use when visiting child care centers to gauge compliance with the CPSC's crib safety standards. On December 28, 2010, we issued a final rule establishing safety standards for full-size and non-full-size baby cribs in response to the direction under section 104(b) of the Consumer Product Safety Improvement Act (CPSIA) (75 FR 81766). Section 104(c) of the CPSIA specifies that the crib standards apply to anyone who manufactures, distributes, or contracts to sell a crib; to child care facilities, and others holding themselves out to be knowledgeable about cribs; to anyone who leases, sublets, or otherwise places a crib in the stream of commerce; and to owners and operators of places of public accommodation affecting commerce.

The CPSC is seeking OMB approval of a “Verification of Compliance Form” that CPSC staff intends to use when visiting child care centers to measure compliance with the crib safety standards. CPSC investigators or designated state or local government officials will use the form, which will be filled out entirely at the site during the normal course of the visit. The Commission intends to use the information to measure compliance with the crib safety standards and to develop an enforcement strategy. We intend to begin with a pilot program in 2012, which would involve conducting visits to approximately 70 child care centers in seven states. Depending on the results of the pilot program, we would expand the program in 2013, although expansion of the program's size would depend upon the availability of CPSC resources.

In the Federal Register of April 16, 2012 (77 FR 22564), we published a notice announcing the CPSC's intention to seek approval of a collection of information related to the CPSC's safety standards for cribs. We received 23 comments in response to the notice. Most comments discussed the crib standards generally, but did not address issues related to this collection of information. Two discussed the accuracy of our estimates or the burden of the proposed collection of information. Both of these commenters stated that 15 minutes may not be sufficient when identifying how long these inspections will take to perform. CPSC staff believes that, while some inspections may take longer than 15 minutes, some will also take less time to conduct. CPSC staff considers the 15 minutes an appropriate estimate of the average length of time for inspection under this program. One comment provided suggestions for the pilot program and its documentation. However, we believe that the form requests all of the applicable information needed to gauge crib compliance.

We estimate the burden of this collection of information as follows: The CPSC estimates that there may be approximately 70 inspections during the pilot program in 2012. Because the investigators will be talking to the child care facility staff at the time of the inspection and asking questions to help complete the form, CPSC staff estimates that the burden hours for child care facility staff to respond to the questions will be approximately a quarter of an hour, per inspection. Thus, the estimated total annual burden hours for respondents are approximately 17.5 hours (70 inspections × a quarter of an hour per inspection). CPSC staff estimates that the annualized cost to all respondents is approximately $383.43, based on an hourly wage of $21.91 per hour ($21.91 × 17.5). (Bureau of Labor Statistics (BLS), total compensation for all workers, sales and office for service-producing industries, Employer Costs for Employee Compensation Table 9, September 2011).

CPSC staff estimates that it will take an average of a quarter of an hour to review the information collected. The annual cost to the federal government of the collection of information in these regulations is estimated to be $704.26. This is based on an average wage rate of $28.13 (the equivalent of a GS-9 Step 5 employee). This represents 69.9 percent of total compensation (Bureau of Labor Statistics, September 2011, percentage wages and salaries for all civilian management, professional, and related employees, Table 1). Adding an additional 30.1 percent for benefits brings the average hourly compensation for a GS-9 Step 5 employee to $40.24. Thus, 35 hours for conducting and reviewing (17.5 hours plus 17.5 hours) the information multiplied against an hourly compensation figure of $40.24 results in an estimated cost to the government of $1,408.40.

Dated: July 23, 2012.
Todd A. Stevenson,
Secretary, Consumer Product Safety Commission.

[FR Doc. 2012-18236 Filed 7-25-12; 8:45 am]

BILLING CODE 6355-01-P